FEDERAL COMMUNICATIONS COMMISSION

Federal-State Joint Conference on Universal Service To Hold En Banc Hearing November 13, 2000 on the Rural Task Force Recommendation for Universal Service Reform for Rural Carriers

AGENCY: Federal Communications Commission.

ACTION: Announcement of hearing.

SUMMARY: The Federal-State Joint Board on Universal Service will hold an en banc hearing on Monday, November 13, 2000, at the 112th NARUC Annual Convention in San Diego, California. The Joint Board will discuss the Rural Task Force's recommendation regarding reform of the universal service support mechanism for rural carriers. Panelists representing a broad range of interests will present their views on the Rural Task Force's recommendation and questions from the Joint Board members will follow.

DATES: The meeting date is November 13, 2000, 3:30 p.m. to 5:30 p.m., San Diego, CA.

ADDRESSES: The meeting location is San Diego—San Diego Marriott Hotel and Marina (Marriott Hall 2) 333 West Harbor Drive, San Diego, CA 92101.

FOR FURTHER INFORMATION CONTACT: Federal-State Joint Board Staff: Katie King, 202-418-7400, kking@fcc.gov; Gene Fullano, 202-418-0492, gfullano@fcc.gov.

News Media: Michael Balmoris, 202-418-0253.

SUPPLEMENTARY INFORMATION: The Federal-State Joint Board on Universal Service (the Joint Board) will hold an en banc hearing on Monday, November 13, 2000, at the 112th NARUC Annual Convention in San Diego, California. The Joint Board will discuss the Rural Task Force's recommendation regarding reform of the universal service support mechanism for rural carriers. Panelists representing a broad range of interests will present their views on the Rural Task Force's recommendation and questions from the Joint Board members will follow.

In the May 1997 Universal Service Order, 62 FR 32862, June 17, 1997, the Commission, acting on the recommendation of the Joint Board, encouraged the Joint Board to establish a Rural Task Force to provide “assistance in identifying the issues unique to rural carriers and analyzing the appropriateness of proxy cost models for rural carriers.” On September 17, 1997, the Joint Board announced the creation of the Rural Task Force and directed it to present a report to the Joint Board making specific recommendations on the establishment of a new mechanism for rural telephone companies. On September 29, 2000, the Rural Task Force submitted the Rural Task Force Recommendation To The Federal-State Joint Board On Universal Service.

The en banc hearing will be held from 3:30 p.m. to 5:30 p.m. at the San Diego Marriott Hotel and Marina, 333 West Harbor Drive, in Marriot Hall 2. An agenda, including scheduled panelists, will be posted on the Joint Board's Web site next week (http://www.fcc.gov/ccb/universal service/joint.htlm). The hearing is open to the public and seating will be available on a first-come, first-served basis.

Internet users may listen to the real-time audio feed of the hearing by accessing the FCC Internet Audio Broadcast Home page (http://www.fcc.gov/realaudio/). Step-by-step instructions on how to listen to the audio broadcast, as well as information regarding the equipment and software needed, are available on the FCC Audio Broadcast Home page. Audio tapes of the hearing may be purchased from Rollin Recording, 208 River Ranch Road, Boerne, Texas 78006, by calling 1-800-798-5468.

Dated: November 3, 2000.
Magalie Roman Salas,
Secretary.

[FR Doc. 00-28726 Filed 11-7-00; 8:45 am]

BILLING CODE 6712-01-P